DEPARTMENT OF COMMERCE

National Oceanic and Atmospheric Administration

RIN 0648-XF261

Threatened Species: Take of Steelhead (Oncorhynchus mykiss)

AGENCY: NOAA's National Marine Fisheries Service (NMFS), National Oceanic and Atmospheric Administration (NOAA), U.S. Department of Commerce.

ACTION: Issuance of one U.S. Endangered Species Act (ESA) Section 10(a)1(A) scientific enhancement permit (permit 20085).

SUMMARY: Notice is hereby given that NMFS has issued Stillwater Sciences one section 10(a)1(A) scientific enhancement permit (permit 20085) for conducting invasive species removal from a south-central California watershed (Chorro Creek). Authorized activities within the permit are expected to affect the threatened South Central California Coast (SCCC) Distinct Population Segment (DPS) of steelhead (Oncorhynchus mykiss).

ADDRESSES: The permit application, the permit, and other related documents are available for review, by appointment, at the foregoing address: California Coastal Office, 501 West Ocean Boulevard, Suite 4200, Long Beach, California 90802 (phone: 562-980-4026, fax: 562-980-4027, email at: Matthew.McGoogan@

noaa.gov. The permit application is also available for review at the Authorizations and Permits for Protected Species Web site: https://apps.nmfs.noaa.gov/search/search.cfm.

FOR FURTHER INFORMATION CONTACT: Matt McGoogan at 562-980-4026, or email: Matthew.McGoogan@noaa.gov.

SUPPLEMENTARY INFORMATION:

Species Covered in This Notice

Threatened SCCC steelhead.

Authority

Scientific research and enhancement permits are issued in accordance with section 10(a)(1)(A) of the ESA (16 U.S.C. 1531 et. seq.) and regulations governing listed fish and wildlife permits (50 CFR 222-227). NMFS issues a section 10(a)1(A) permit based on findings that the permit is (1) applied for in good faith, (2) would not operate to the disadvantage of the listed species which is the subject of the permit, and (3) consistent with the purposes and policies set forth in section 2 of the ESA. Authority to take listed species is subject to conditions set forth in the permit.

Permit Issued

A receipt of application notice for Permit 20085 was published in the Federal Register on July 21, 2016 (81 FR 47359), providing 30 days for public comment prior to permit processing. No comments were received. Permit 20085 was issued to Stillwater Sciences on October 31, 2016.

Permit 20085 authorizes take of threatened SCCC steelhead in association with enhancement activities involving the removal of Sacramento pikeminnow (Ptychocheilus grandis) from the Chorro Creek watershed in San Luis Obispo County, California. The primary objectives of the enhancement effort involve: (1) Determining the distribution, abundance, size, and age structures of both pikeminnow and steelhead in the watershed; (2) eliminating pikeminnow from the watershed; (3) developing a plan for long-term pikeminnow management in the watershed; and (4) documenting changes in steelhead abundance and distribution in response to pikeminnow removal. Proposed enhancement activities include: (1) Conducting snorkel surveys to assess abundance and distribution of pikeminnow and steelhead; (2) using backpack electrofishing equipment, seines, hook-and-line sampling, and spearfishing to capture pikeminnow; (3) measuring the weight and length of juvenile steelhead collected during sampling activities; (4) returning the collected steelhead alive and unharmed to Chorro Creek; and (5) humanely euthanizing and disposing pikeminnow.

Permit 20085 authorized field activities associated with the enhancement effort to begin on October 31, 2016 (the date the permit was issued), and ceases authorization of the subject activities when the permit expires on December 31, 2020. The annual take of threatened SCCC steelhead that permit 20085 authorizes Stillwater Sciences for the subject enhancement effort is as follows: (1) Non-lethal capture and release of up to 1,500 juvenile steelhead while electrofishing, (2) non-lethal capture and release of up to 150 juvenile steelhead while seining, (3) non-lethal capture and release up to 5 juvenile steelhead while hook-and-line fishing, and (4) non-lethal observation of up to 2,000 juvenile and 10 adult steelhead during instream snorkel surveys. The potential annual unintentional lethal take permit 20085 authorizes is up to 33 juvenile steelhead. Overall, no intentional lethal take of steelhead is authorized or expected as a result of these enhancement activities.

The subject scientific enhancement activities that permit 20085 authorize are expected to support steelhead recovery in the Chorro Creek watershed and are consistent with recommendations and objectives outlined in NMFS' South Central California Steelhead Recovery Plan. See the application for and issued permit 20085 for greater details on the associated scientific enhancement activities and related methodology authorized with this permit.

Dated: March 8, 2017.
Angela Somma,
Chief, Endangered Species Division, Office of Protected Resources, National Marine Fisheries Service.

[FR Doc. 2017-04870 Filed 3-10-17; 8:45 am]

BILLING CODE 3510-22-P